DEPARTMENT OF TRANSPORTATION

Research and Special Programs Administration

Pipeline Safety: Self-Assessment of Pipeline Operator Public Education Programs

AGENCY: Research and Special Programs Administration (RSPA), DOT.

ACTION: Notice; issuance of advisory bulletin.

SUMMARY: RSPA's Office of Pipeline Safety (RSPA/OPS) is issuing this advisory bulletin to owners and operators of hazardous liquid pipelines, gas transmission pipelines, gas distribution pipeline systems and gathering pipeline systems regulated under the Federal pipeline safety regulations at 49 CFR Parts 192 and 195. In an advisory bulletin issued September 5, 2003 (68 FR 52816) RSPA/OPS noted that the Pipeline Safety Improvement Act of 2002 (PSIA) requires each owner or operator of a gas or hazardous liquid pipeline system to implement a continuous public education program on the use of one-call notification systems and other damage prevention activities, the indications of and hazards of an unintended release of product from a pipeline, the public safety steps required after a release, and how to report pipeline product releases. This advisory reminds pipeline operators that they must complete and submit self-assessments of their public education programs to RSPA/OPS for receipt no later than December 17, 2003, to meet the deadline established in the PSIA.

FOR FURTHER INFORMATION CONTACT: Juan Carlos Martinez, (202) 366-1933; or by e-mail, juan.martinez@rspa.dot.gov. This document can be viewed at the OPS home page at http://ops.dot.gov.

I. Advisory Bulletin (ADB-03-08)

To: Owners and Operators of Hazardous Liquid, Gas Transmission, Gas Distribution, and Gathering Pipeline Systems.

Subject: Self-Assessment of Pipeline Operator Public Education Programs.

Purpose: To remind owners and operators of gas and hazardous liquid pipeline systems of the requirements for effective public education programs and of the requirement to complete and submit self-assessments of those programs to RSPA/OPS no later than December 17, 2003.

Advisory: The Pipeline Safety Improvement Act of 2002 (PSIA) requires that each owner or operator of a gas or hazardous liquid pipeline system must implement a continuous public education program. The PSIA requires that by December 17, 2003, each owner or operator must review its existing public education program for effectiveness and modify the program as necessary by that date.

Although submission of the public education program is not required at this time, RSPA/OPS advises each operator to document their compliance with the PSIA by completing a formal self-assessment of its public education program and by comparing this program against the guidelines established in the recently-issued, industry consensus standard, API RP 1162, Public Awareness Programs for Pipeline Operators, and has developed a self-assessment form for that purpose. The self-assessment forms can be completed and submitted online at http://primis.rspa.dot.gov/edu/rp1162.htm. Self-assessment forms may also be downloaded from the same Web address and submitted to RSPA/OPS via E-mail, fax, or other delivery method.

Operators must submit their self-assessments to RSPA/OPS for receipt no later than December 17, 2003:

• Completed electronic forms may be submitted to RSPA/OPS as E-mail attachments at: RP1162SA@rspa.dot.gov.

• Hard-copy forms can be completed and sent to RSPA/OPS via fax, U.S. mail, or other delivery methods, but must be received by RSPA/OPS no later than December 17, 2003. Delivery of documents should be confirmed. Forms submitted by mail or other delivery methods should be sent to: Attn: Juan Carlos Martinez, Room 7128, U.S. Department of Transportation, Research and Special Programs Administration, Office of Pipeline Safety, 400 7th Street, SW., Washington, DC 20590.

Faxes should be sent to: Juan Carlos Martinez, fax # 202-366-4566. (Operators may call 202-366-1933 for confirmation of fax receipt).

Operators are encouraged to also provide copies of their self-assessments to the appropriate state pipeline safety agencies.

II. Background

The Federal pipeline safety regulations at 49 CFR 192 and 49 CFR 195 require operators of gas and hazardous liquid pipelines to establish continuing education programs to enable customers, the public, appropriate government organizations, and persons engaged in excavation activities to recognize a pipeline emergency for the purpose of reporting to the operator or the appropriate public officials. The regulations also require operators to establish and maintain liaison with appropriate fire, police, and other public officials and to develop and implement written programs to prevent pipeline damage from excavation activities.

The PSIA requires that each owner or operator of a gas or hazardous liquid pipeline system implement a continuous public education program on the use of one-call notification systems prior to excavation and other damage prevention activities, possible hazards associated with unintended releases from the pipeline system, physical indications that such a release may have occurred, what steps should be taken for public safety in the event of a pipeline release, and how to report such an event.

The PSIA requires that by December 17, 2003, each owner or operator of a gas or hazardous liquid pipeline system must review its existing public education program for effectiveness and modify the program as necessary. The completed program must include activities to advise affected municipalities, school districts, businesses, and residents of pipeline system locations. The completed program must be submitted upon request to the Secretary of Transportation or, in the case of an intrastate pipeline system operator, to the appropriate State agency, and shall be periodically reviewed by the Secretary or, in the case of an intrastate pipeline system operator, the appropriate State agency.

The PSIA also provides that the Secretary of Transportation may develop material for use in the program and issue standards prescribing the elements of an effective public education program.

In recognition of the importance of effective public education programs and outstanding recommendations from the National Transportation Safety Board (NTSB), and anticipated legislative action in this regard, a pipeline industry Task Force has developed a consensus standard establishing guidelines for pipeline operators on development, implementation, and evaluation of public awareness programs for operating pipeline systems, API Recommended Practice (RP) 1162, Public Awareness Programs for Pipeline Operators. The Task Force included representatives from gas and hazardous liquid pipeline companies, local gas distribution companies, gathering pipeline system operators, and pipeline industry trade associations. Additional comments were solicited from local public officials, the public, and other interested parties. Representatives from RSPA/OPS and the National Association of Pipeline Safety Representatives (NAPSR) observed and provided comments on the development of the standard.

API RP 1162 was balloted and approved following the guidelines of both the American Petroleum Institute (API) and the American National Standards Institute (ANSI). After revisions to reflect comments, it was published as a national consensus standard in September 2003.

RSPA/OPS considers that “public education programs,” as used in the PSIA, and “public awareness programs,” as used in API RP 1162, are the same concept. The level of public education and awareness regarding pipeline operations and safety can be improved only through education and communication programs that are demonstrated to be effective. Therefore, RSPA/OPS plans to initiate a new rulemaking, setting minimum requirements for pipeline operators to develop, implement, and manage public education programs. RSPA/OPS will incorporate by reference into the new rule, all or portions of the guidance provided in API RP 1162.

RSPA/OPS has evaluated the PSIA requirements that operators review and modify their public education programs and submit their completed programs upon request to RSPA/OPS or the appropriate state pipeline safety agency. We have determined that the intent of the requirements can be met and pipeline safety can be best served in the short-term by having pipeline operators document their compliance with the PSIA by completing a formal self-assessment of their public education programs and evaluating these programs against the guidelines provided in API RP 1162. Therefore, RSPA/OPS has developed a self-assessment form that will help operators identify gaps in their public education programs and improvements needed to align those programs with the requirements of API RP 1162.

Operators must complete and submit self-assessments of their public education programs to RSPA/OPS no later than December 17, 2003, to meet the deadline established in the PSIA. Operators are encouraged to complete and submit the self-assessment online. Operators are encouraged to also provide copies of their self-assessments to the appropriate state pipeline safety agencies. The self-assessment forms can be found online at http://primis.rspa.dot.gov/edu/rp1162.htm.

Alternatively, a Microsoft Word form for electronic completion of the self-assessment form may be downloaded and completed offline. Or, a file for hard-copy printing and completion of the self-assessment may be downloaded and completed offline. Self-assessment forms downloaded and completed offline must be submitted to RSPA/OPS for receipt no later than December 17, 2003.

Operators will be required in the future to submit their public education program plans to the RSPA/OPS for review. Time frames for submission will be determined by the RSPA/OPS and operators will be notified. These plans should identify how the operators will address gaps and make improvements in their public education programs. Operator public education programs will be subject to inspection by RSPA/OPS and the appropriate state pipeline safety agency.

Issued in Washington, DC on November 19, 2003.
James K. O'Steen,
Deputy Associate Administrator for Pipeline Safety.

[FR Doc. 03-29392 Filed 11-24-03; 8:45 am]

BILLING CODE 4910-60-P